DEPARTMENT OF AGRICULTURE

Agricultural Marketing Service

[Docket No. FV-04-331]

United States Standards for Grades of Canned Beets, United States Standards for Grades of Canned Carrots, and United States Standards for Grades of Canned Potatoes

AGENCY: Agricultural Marketing Service, USDA.

ACTION: Notice.

SUMMARY: The United States Standards for Grades of Canned Beets, United States Standards for Grades of Canned Carrots, and United States Standards for Grades of Canned White Potatoes were corrected to affect a change in Table IA of each of the standards to reflect current values in the Recommended Minimum Drained Weights, Metric System. The change is identified by the date April 2003 in each of the Tables.

FOR FURTHER INFORMATION CONTACT: Chere L. Shorter, (202) 720-5021, or e-mail chere.shorter@usda.gov.

SUPPLEMENTARY INFORMATION: A Notice was published in the Federal Register, (63 FR 127 pages 36201-36202) dated July 2, 1998, revising the United States Standards for Grades of Canned Beets, United States Standards for Grades of Canned Carrots, and United States Standards for Grades of Canned Potatoes, effective August 3, 1998. However, the Recommended Minimum Drained Weight tables, (Metric version), in each of the grade standards contained incorrect values. Accordingly, Table IA of each U.S. grade standard was corrected April 2003 to reflect the change.

Corrected copies of the U.S. grade standards are located on the website at www.ams.usda.gov/fv/ppb.html and are available from Standardization Section, Processed Products Branch, Fruit and Vegetable Programs, Agricultural Marketing Service, U.S. Department of Agriculture, 1400 Independence Avenue SW., Room 0709, South Building; STOP 0247, Washington, DC 20250; telephone: (202) 720-5021 or fax (202) 690-1527.

Authority: 7 U.S.C. 1621-1627.

Dated: April 19, 2004.
A.J. Yates,
Administrator, Agricultural Marketing Service.

[FR Doc. 04-9260 Filed 4-22-04; 8:45 am]

BILLING CODE 3410-02-P